DEPARTMENT OF TRANSPORTATION

Federal Aviation Administration

Notice of Opportunity for Public Comment on Surplus Property Release at Golden Triangle Regional Airport, Columbus, MS

AGENCY: Federal Aviation Administration (FAA), DOT.

ACTION: Notice of intent to rule on land release request.

SUMMARY: Under the provisions of Title 49, U.S.C. Section 47153(c), notice is being given that the FAA is considering a request from the Golden Triangle Regional Airport Authority to waive the requirement that A 2.73± acre parcel of surplus property, located at the Golden Triangle Regional Airport, be used for aeronautical purposes.

DATES: Comments must be received on or before August 20, 2007.

ADDRESSES: Comments on this notice may be mailed or delivered in triplicate to the FAA at the following address: Jackson Airports District Office, 100 West Cross Street, Suite B, Jackson, MS 39208-2307.

In addition, one copy of any comments submitted to the FAA must be mailed or delivered to Michael P. Hainsey, Executive Director, Golden Triangle Regional Airport Authority, Columbus, MS, at the following address: 2080 Airport Road, Columbus, MS 39701.

FOR FURTHER INFORMATION CONTACT: David Shumate, Program Manager, Jackson Airports District Office, 100 West Cross Street, Suite B, Jackson, MS 39208-2307, (601) 664-9882. The land release request may be reviewed in person at this same location.

SUPPLEMENTARY INFORMATION: The FAA is reviewing a request by Golden Triangle Regional Airport Authority to release 2.73 acres of surplus property at the Golden Triangle Regional Airport. The Lowndes County Industrial Development Authority will acquire the property for fair market value. A power substation will be constructed on the property.

Any person may inspect the request in person at the FAA office listed above under FOR FURTHUR INFORMATION CONTACT.

In addition, any person may, upon request, inspect the request, notice and other documents germane to the request in person at the Golden Triangle Regional Airport, Columbus, Mississippi.

Issued in Jackson, Mississippi, on July 12, 2007.
Rans D. Black,
Manager, Jackson Airports District Office, Southern Region.

[FR Doc. 07-3505 Filed 7-18-07; 8:45 am]

BILLING CODE 4910-13-M